DEPARTMENT OF COMMERCE

National Oceanic and Atmospheric Administration

RIN 0648-XC744

Endangered and Threatened Species; Recovery Plans

AGENCY: National Marine Fisheries Service (NMFS), National Oceanic and Atmospheric Administration, Commerce.

ACTION: Notice of Availability; request for comments.

SUMMARY: The National Marine Fisheries Service (NMFS) announces the availability of the Southern Distinct Population Segment (DPS) of Eulachon (Thaleichthys pacificus) Draft Recovery Plan (Plan) for public review. NMFS is soliciting review and comment from the public and all interested parties on the draft Plan, and will consider all substantive comments received during the review period before submitting the Plan for final approval.

DATES: Comments and information on the draft Plan must be received by close of business on December 19, 2016.

ADDRESSES: You may submit comments on this document, identified by NOAA-NMFS-2016-0136 by either of the following methods:

• Electronic Submissions: Submit all electronic public comments via the Federal e-Rulemaking Portal. Go to www.regulations.gov/#!docketDetail; D=NOAA-NMFS-2016-0136. Click the `Comment Now!” icon, complete the required fields, and enter or attach your comments.

• Mail: Submit written comments to Robert Anderson, National Marine Fisheries Service, 1201 NE. Lloyd Boulevard, Suite 1100, Portland, OR 97232.

Instructions: You must submit comments by one of the above methods to ensure that we receive, document, and consider them. Comments sent by any other method, to any other address or individual, or received after the end of the comment period, may not be considered. All comments received are a part of the public record and will generally be posted for public viewing on http://www.regulations.gov without change. All personal identifying information (e.g., name, address, etc.), confidential business information, or otherwise sensitive information submitted voluntarily by the sender will be publicly accessible. We will accept anonymous comments (enter “N/A” in the required fields if you wish to remain anonymous).

FOR FURTHER INFORMATION CONTACT: Robert Anderson, NMFS Eulachon Recovery Coordinator, at (503) 231-2226, or robert.c.anderson@noaa.gov.

SUPPLEMENTARY INFORMATION:

Background

On March 18, 2010, we listed the southern DPS of eulachon as a threatened species under the ESA (75 FR 13012). The listing of the DPS of eulachon was informed by the best available scientific and commercial data and the status review conducted by a Biological Review Team (BRT) (Gustafson et al., 2010). The final critical habitat rule for the listed DPS of eulachon was published in the Federal Register on October 20, 2011 (76 FR 65324). In 2013, we appointed a recovery team and initiated recovery planning for eulachon to assist the West Coast Region with the development of research and recovery actions for the recovery plan. In 2015 we announced a 5-year review (80 FR 6695; February 6, 2015) for eulachon. Based on the 5-year review, the southern DPS of eulachon shall remain threatened under the ESA. The 5-year review was completed April 1, 2016 (NMFS 2016) and is available at: http://www.westcoast.fisheries.noaa. gov/publications/status_reviews/other_species/other_marine_species_esa_status_reviews.html.

Draft Recovery Plan

Recovery plans describe actions beneficial to the conservation and recovery of species listed under the Endangered Species Act of 1973 (ESA), as amended (16 U.S.C. 1531 et seq.). Section 4(f)(1) of the ESA requires that recovery plans incorporate, to the maximum extent practicable: (1) Objective, measurable criteria which, when met, would result in a determination that the species is no longer threatened or endangered; (2) site-specific management actions necessary to achieve the Plan's goals; and (3) estimates of the time required and costs to implement recovery actions. The ESA requires the development of recovery plans for each listed species unless such a plan would not promote its recovery.

The Plan for eulachon was developed by NMFS in cooperation with a recovery team made up of experts from the Washington Department of Fish and Wildlife, the Northwest Fisheries Science Center, and the Southwest Fisheries Science Center. Additionally, individuals from the Eulachon Stakeholder Group also provided input to the development of the Plan.

NMFS's goal is to restore the threatened eulachon DPS to the point where they are again secure, self-sustaining members of their ecosystems and no longer need the protections of the ESA. The Plan provides background on the natural history of eulachon, population trends, and the potential threats to their viability. The Plan lays out a recovery strategy to address the potential threats based on the best available science, identifies site-specific actions with time lines and costs, and includes recovery goals and criteria. NMFS concludes that the Plan meets the requirements of the ESA. The primary factors responsible for the decline of eulachon are climate change impacts on ocean conditions, eulachon bycatch in shrimp trawl fisheries, climate change impacts on freshwater habitats, dams/water diversions, and predation. The Plan assesses these factors and other threats using the best available scientific and commercial data, provides current information and conservation measures to assess, rank, and prioritize, and provides guidance to address the threats. In some cases, more information is needed to understand the extent of a threat or whether the threat is limiting recovery, and in those cases research to address these data gaps is outlined.

The Plan is not regulatory, but presents guidance for use by agencies and interested parties to assist in the recovery of eulachon. The Plan identifies substantive actions needed to achieve recovery by assessing the species' population abundance, distribution, and genetic changes over time and addressing the threats to the species. When determining recovery actions, the Plan prioritized actions that increase knowledge of the species, threats ranked as high risk threats, and aims to improve understanding of whether a particular threat is limiting recovery and to eliminate or mitigate that threat, or to improve our understanding of, and ability to manage, that threat. The actions in the Plan include research, management, monitoring, and outreach efforts, because a comprehensive approach to eulachon recovery is likely to have greater success than focusing on any one type of action. There are also actions targeted at incorporating new information and conducting regular reassessments, making this Plan an adaptive management plan.

We expect the Plan to inform section 7 consultations with Federal agencies under the ESA and to support other ESA decisions, such as considering permits under section 10. We have already begun implementation of several actions as described in the plan, such as partnering with the Washington Department of Fish and Wildlife and the Oregon Department of Fish and Wildlife to conduct spawning stock biomass estimations of eulachon in the Columbia River and coastal systems. After public comment and the adoption of the Final Recovery Plan, we will continue to implement actions in the plan for which we have authority, work cooperatively on implementation of other actions, and encourage other Federal and state agencies to implement recovery actions for which they have responsibility and authority.

The total time and cost to recovery are difficult to predict with the current information. The Plan outlines recovery research and actions, priority numbers, and estimated eulachon recovery program cost over an initial 5-year period. Projections of which actions may continue beyond year five are provided, but there is uncertainty regarding how long recovery will take. Currently, we do not have reliable abundance and productivity information for all subpopulations of eulachon. As prioritized information is obtained on abundance and productivity, as well as additional information to assess the impact on how some threats may limit recovery and how the threats can be effectively managed or mitigated, more robust time and expense projections can be developed.

The cost of the approximately 70 actions recommended in this Plan for the first 5 years of recovery is approximately $14,750,000. A gross estimate for the total cost of recovery action to be implemented is between $29,500,000 (25 years) to $84,765,000 (100 years).

There are numerous parallel efforts underway, independent from listed eulachon recovery, to protect and restore the Columbia River and Washington, Oregon, and California coastal ecosystems. These efforts will provide benefits to listed eulachon and their habitats and prey base and are thus highlighted in the plan. However, the costs of these actions are not included in the total cost of listed eulachon recovery because they would occur independently of this Plan. Similarly, actions conducted to restore listed eulachon and their habitats will benefit other listed species that utilize the Columbia River and Washington, Oregon, and California coastal ecosystems, such as the 28 salmon and steelhead (Oncorhynchus spp.) species, and may provide economic benefits. We are unable to quantify the economic benefits of listed eulachon recovery actions, but it is likely the benefits to the ecosystem and economy would offset the total recovery costs estimated in the Plan. NMFS requests and will consider all substantive comments and information presented during the public comment period as we finalize this Plan.

References Cited

The complete citations for the references used in this document can be obtained by contacting NMFS (See ADDRESSES and FOR FURTHER INFORMATION CONTACT) or online at: http://www.westcoast.fisheries.noaa.gov/protected.

Authority: 16 U.S.C. 1531 et seq.

Dated: October 17, 2016.
Angela Somma,
Chief, Endangered Species Conservation Division, Office of Protected Resources, National Marine Fisheries Service.

[FR Doc. 2016-25399 Filed 10-19-16; 8:45 am]

BILLING CODE 3510-22-P